DEPARTMENT OF AGRICULTURE

Food Safety and Inspection Service

[Docket No. FSIS-2009-0013]

Notice of Request for a New Information Collection (Be Food Safe Campaign Pilot Surveys)

AGENCY: Food Safety and Inspection Service, USDA.

ACTION: Notice and request for comments.

SUMMARY: In accordance with the Paperwork Reduction Act of 1995 and the Office of Management and Budget (OMB) regulations, the Food Safety and Inspection Service (FSIS) is announcing its intention to request a new information collection concerning surveys of consumers to assess the effectiveness of the Be Food Safe campaign mass media advertising pilot.

DATES: Comments on this notice must be received on or before August 14, 2009.

ADDRESSES: FSIS invites interested persons to submit comments on this notice. Comments may be submitted by either of the following methods:

• Federal eRulemaking Portal: This Web site provides the ability to type short comments directly into the comment field on this Web page or attach a file for lengthier comments. Go to http://www.regulations.gov. Follow the online instructions at that site for submitting comments.

• Mail, including floppy disks or CD-ROMs, and hand- or courier-delivered items: Send to Docket Clerk, U.S. Department of Agriculture, Food Safety and Inspection Service, 1400 Independence Avenue, SW., Room 2534, South Agriculture Building, Washington, DC 20250-3700.

Instructions: All items submitted by mail or electronic mail must include the Agency name and docket number FSIS-2009-0013. Comments received in response to this docket will be made available for public inspection and posted without change, including any personal information, to http://www.regulations.gov.

Docket: For access to comments received, go to the FSIS Docket Room at the address listed above between 8:30 a.m. and 4:30 p.m., Monday through Friday.

For Additional Information: Contact John O'Connell, Paperwork Reduction Act Coordinator, Food Safety and Inspection Service, USDA, 1400 Independence Avenue, SW., Room 3532 South Building, Washington, DC 20250, (202) 720-0345.

SUPPLEMENTARY INFORMATION:

Title: Be Food Safe Campaign Pilot Surveys.

Type of Request: New information collection.

Abstract: FSIS has been delegated the authority to exercise the functions of the Secretary as specified in the Federal Meat Inspection Act (FMIA) (21 U.S.C. 601, et seq.), the Poultry Products Inspection Act (PPIA) (21 U.S.C. 451, et seq.), and the Egg Products Inspection Act (EPIA) (21 U.S.C. 1031, et seq.). FSIS protects the public by verifying that meat, poultry, and egg products are safe, wholesome, unadulterated, and correctly labeled and packaged.

FSIS is requesting a new information collection addressing the paperwork burden related to the collection of information for the Be Food Safe campaign pilot surveys.

FSIS has initiated the Be Food Safe campaign to educate consumers about the importance of safe food handling and how to reduce the risks associated with foodborne illness. As a part of the Be Food Safe campaign, the Agency plans to purchase advertising through Oklahoma City, Oklahoma, mass media outlets to promote safe food handling messages to consumers. The pilot surveys will measure consumer awareness and response. The Oklahoma City, Oklahoma, pilot surveys will test the effectiveness of the use of mass media advertising to promote the four Be Food Safe campaign safe food handling messages: clean, separate, cook, and chill. The pilot advertising and surveys will be targeted at women, aged 25 to 49, who are caregivers for children under the age of 10 or for older adults. FSIS identified these women as the target audience because they are the individuals who are most likely to be preparing food for themselves and others, and who have an incentive to listen to food safety messages and adapt or change their behaviors in response to these messages.

Before launching the mass media advertising pilot, 400 randomly selected women in the target audience will complete a 10 minute pre-test telephone survey. The pre-test survey will assess attitudes, beliefs, and behavior pertaining to food handling and food safety, media habits, and demographic and personal information (annual household income, education level, and ethnic origin). Approximately three to four weeks after the pre-test survey and immediately following the airing of the food safety messages, the post-test survey will be conducted with a second unique sample of 400 women. The post-test survey will assess awareness of and reactions to the advertising and its food safety messages, as well as gauge respondents' association of the advertising with USDA. The post-test survey will also inventory respondents' attitudes, intentions, and behaviors related to food safety (i.e., clean, separate, cook, and chill).

The data collected in these surveys will allow FSIS to determine what knowledge members of the target audience had about food safety before the advertising, whether they were aware of the campaign, and, if they were, whether they changed any food preparation behaviors as a result of the advertising. The information collected will be used to refine the campaign's messages, materials, and approaches in order to improve its overall effectiveness. Addressing any issues identified during the evaluation of the advertising in Oklahoma City, Oklahoma, will help ensure that the use of mass media advertising nation-wide for the Be Food Safe campaign is successful in promoting proper food safety behavior among the general population.

FSIS has made the following estimates based upon an information collection assessment:

Estimate of Burden: FSIS estimates that it will take participants an average of 10 minutes per response and non-participants 2 minutes per response.

Respondents: Consumers.

Estimated Total No. of Respondents: 800 participants and 434 non-participants. (The Agency estimates that approximately 434 consumers contacted by telephone will decline to participate in the surveys).

Estimated No. of Annual Responses per Respondent: 1.

Estimated Total Annual Burden on Respondents: 144.8 hours.

Copies of this information collection assessment can be obtained from John O'Connell, Paperwork Reduction Act Coordinator, Food Safety and Inspection Service, USDA, 1400 Independence, SW., Room 3532, South Bldg., Washington, DC 20250, (202)720-0345.

Comments are invited on: (a) Whether the proposed collection of information is necessary for the proper performance of FSIS's functions, including whether the information will have practical utility; (b) the accuracy of FSIS's estimate of the burden of the proposed collection of information, including the validity of the methodology and assumptions used; (c) ways to enhance the quality, utility, and clarity of the information to be collected; and (d) ways to minimize the burden of the collection of information, including through the use of appropriate automated, electronic, mechanical, or other technological collection techniques, or other forms of information technology. Comments may be sent to both FSIS, at the addresses provided above, and the Desk Officer for Agriculture, Office of Information and Regulatory Affairs, Office of Management and Budget, Washington, DC 20253.

Responses to this notice will be summarized and included in the request for OMB approval. All comments will also become a matter of public record.

Additional Public Notification

Public awareness of all segments of rulemaking and policy development is important. Consequently, in an effort to ensure that the public and in particular minorities, women, and persons with disabilities are aware of this notice, FSIS will announce it on-line through the FSIS Web page located at http://www.fsis.usda.gov/regulations/2009_Notices_Index/index.asp.

FSIS also will make copies of this Federal Register publication available through the FSIS Constituent Update, which is used to provide information regarding FSIS policies, procedures, regulations, Federal Register notices, FSIS public meetings, and other types of information that could affect or would be of interest to our constituents and stakeholders. The Update is communicated via Listserv, a free e-mail subscription service consisting of industry, trade, and farm groups, consumer interest groups, allied health professionals, scientific professionals, and other individuals who have requested to be included. The Update also is available on the FSIS Web page. Through Listserv and the Web page, FSIS is able to provide information to a much broader, more diverse audience.

In addition, FSIS offers an e-mail subscription service which provides automatic and customized access to selected food safety news and information. This service is available at http://www.fsis.usda.gov/news_and_events/email_subscription/.

Options range from recalls to export information to regulations, directives and notices. Customers can add or delete subscriptions themselves, and have the option to password protect their accounts.

Done at Washington, DC, on June 9, 2009.
Alfred V. Almanza,
Administrator.

[FR Doc. E9-13936 Filed 6-12-09; 8:45 am]

BILLING CODE 3410-DM-P